FEDERAL COMMUNICATIONS COMMISSION

Notice of Public Information Collection(s) Being Submitted for Review to the Office of Management and Budget

July 22, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 2, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-XXXX.

Title: Broadband Power Line Systems, ET Docket No. 04-37.

Form Number: N.A.

Type of Review: New collection.

Respondents: Business or other for-profit; Not-for-profit institutions; and State, Local or Tribal Government.

Number of Respondents: 100.

Estimated Time per Response: 0.5 hour (30 minutes); multiple responses annually.

Frequency of Response: Recordkeeping; On occasion reporting requirements, Third party disclosure.

Total Annual Burden: 2,600 hours.

Total Annual Cost: $60,000.

Privacy Impact Assessment: No impact(s).

Needs and Uses: On October 14, 2004, the FCC adopted a Report and Order, Amendment of Part 15 regarding new requirements and measurement guidelines for Access Broadband over Power Line Systems, ET Docket No. 04-37, FCC 04-245. The Report and Order requires that entities operating Access BPL systems shall supply to an industry-recognized entity, information on all existing Access BPL systems and all proposed Access BPL systems for inclusion into a publicly available data base, within 30 days prior to initiation of service. The following information should be provided to the database manager: the name of the Access BPL provider; the frequencies of the Access BPL operation; the postal zip codes served by the specific Access BPL operation; the manufacturer and type of Access BPL equipment and its associated FCC ID number, or in the case of Access BPL equipment that has been subject to verification, the Trade Name and Model Number, as specified on the equipment label; the contact information, including both phone number and email address of a person at, or associated with, the BPL operator's company, to facilitate the resolution of any interference complaint; the proposed/or actual date of Access BPL operation. The Access BPL operator can begin operations once the 30-day advance notification timeframe is over, then the Access BPL operator must notify the database manager of the date of commencement of actual operations for inclusion in the database. The database manager shall be required to enter this information into the publicly accessible database within three business days of receipt.

Federal Communications Commission.
Marlene H. Dortch,
Secretary.

[FR Doc. 05-15133 Filed 8-2-05; 8:45 am]

BILLING CODE 6712-01-P